DEPARTMENT OF EDUCATION

[Docket No. ED-2013-ICCD-0106]

Agency Information Collection Activities; Submission to the Office of Management and Budget for Review and Approval; Comment Request; Evaluation of the Early Warning and Intervention Monitoring System

AGENCY: Institute of Education Sciences/National Center for Education Statistics (IES), Department of Education (ED).

ACTION: Notice.

SUMMARY: In accordance with the Paperwork Reduction Act of 1995 (44 U.S.C. chapter 3501 et seq.), ED is proposing a new information collection.

DATES: Interested persons are invited to submit comments on or before December 16, 2013.

ADDRESSES: Comments submitted in response to this notice should be submitted electronically through the Federal eRulemaking Portal at http://www.regulations.gov by selecting Docket ID number ED-2013-ICCD-0106 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E103, Washington, DC 20202-4537.

FOR FURTHER INFORMATION CONTACT: For questions related to collection activities or burden, please call Katrina Ingalls, 703-620-3655 or electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the Early Warning and Intervention Monitoring System.

OMB Control Number: 1850-NEW.

Type of Review: New collection.

Respondents/Affected Public: Individuals or households.

Total Estimated Number of Annual Responses: 839.

Total Estimated Number of Annual Burden Hours: 1,772.

Abstract: The U.S. Department of Education (ED) requests clearance for the recruitment materials and data collection protocols for activities related to the Regional Educational Laboratory Program (REL). ED, in consultation with American Institutes for Research (AIR), is planning a two-part evaluation of the Early Warning and Intervention Monitoring System (EWIMS), consisting of an impact study and an implementation study. OMB approval is being requested for a multimode data collection and analysis of a group of schools, students, and staff members in public schools in Ohio, Michigan, and Indiana. The impact study consists of data collection from the state education agencies (SEAs) in Ohio, Michigan, and Indiana and participating districts and schools. The implementation component consists of data collection from participating schools.

This impact study (designed as a cluster randomized controlled trial) will focus on student outcomes spanning multiple domains of school success (student risk status, scores on graduation tests, persistence and progress in school, and being on track at the end of ninth grade) and will examine whether the EWIMS model has an impact on intermediate outcomes in schools, including the schools data culture and data-informed allocation of dropout prevention interventions. The implementation study will focus on schools experience with implementation, the extent to which schools faithfully implement the EWIMS model and the interventions provided to students identified as at risk by the EWS tool.

The purpose of the project is to assess the implementation and impact of EWIMS, a data tool and process for implementing a system of data-driven decision making. Developed by the National High School Center, EWIMS provides a means of systematically and reliably identifying students at risk for dropping out of high school. The proposed study is a two-year school-level randomized controlled trial (RCT) to examine the impact of implementing EWIMS on school processes and student outcomes.

Kate Mullan,
Acting Director, Information Collection Clearance Division, Privacy, Information and Records Management Services, Office of Management.

[FR Doc. 2013-27299 Filed 11-14-13; 8:45 am]

BILLING CODE 4000-01-P